NUCLEAR REGULATORY COMMISSION

[NRC-2023-0141]

Information Collection: Pre-Application Communication and Scheduling for Licensing Actions Related to Digital Instrumentation and Controls

AGENCY: Nuclear Regulatory Commission.

ACTION: Notice of submission to the Office of Management and Budget; request for comment.

SUMMARY: The U.S. Nuclear Regulatory Commission (NRC) has recently submitted a proposed collection of information to the Office of Management and Budget (OMB) for review. The information collection is entitled, “Pre-Application Communication and Scheduling for Licensing Actions Related to Digital Instrumentation and Controls.”

DATES: Submit comments by May 17, 2024. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301415-2084; email: Infocollects.Resource@nrc.gov.

SUPPLEMENTARY INFORMATION:

I. Obtaining Information and Submitting Comments

A. Obtaining Information

Please refer to Docket ID NRC-2023-0141 when contacting the NRC about the availability of information for this action. You may obtain publicly available information related to this action by any of the following methods:

• Federal Rulemaking Website: Go to https://www.regulations.gov and search for Docket ID NRC-2023-0141.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The supporting statement, Regulatory Issue Summary, and burden table are available in ADAMS under Accession Nos. ML23340A138, ML24061A011, and ML24061A015.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled “Pre-Application Communication and Scheduling for Licensing Actions Related to Digital Instrumentation and Controls.” The NRC hereby informs potential respondents that an agency may not conduct or sponsor, and that a person is not required to respond to, a collection of information unless it displays a currently valid OMB control number.

The NRC published a Federal Register notice with a 60-day comment period on this information collection on December 5, 2023, 88 FR 84365.

1. The title of the information collection: Pre-Application Communication and Scheduling for Licensing Actions Related to Digital Instrumentation and Controls.

2. OMB approval number: An OMB control Number has not yet been assigned to this proposed information collection.

3. Type of submission: New.

4. The form number, if applicable: Not applicable.

5. How often the collection is required or requested: Annually, with the addition of voluntary updates as available.

6. Who will be required or asked to respond: All holders of operating licenses or combined licenses for nuclear power reactors, except those that have permanently ceased operations and have certified that fuel has been permanently removed from the reactor vessel or combined license holders that have not received authorization to load nuclear fuel and begin operation.

7. The estimated number of annual responses: 4.33.

8. The estimated number of annual respondents: 4.33.

9. The estimated number of hours needed annually to comply with the information collection requirement or request: 867.

10. Abstract: Operating reactors in the U.S. want to more efficiently integrate and implement digital upgrades into plant systems to address obsolescence issues with analog components and improve overall plant reliability. The regulatory focus for digital systems is tailored to the unique nature of the digital technologies and uses proposed by licensees and applicants. Depending on the scope of an analog to digital or a digital-to-digital upgrade, the level-of-effort for a requested licensing actions (e.g., license amendment, exemption) can be significantly higher than the level-of-effort expended on a routine requested licensing action. Additionally, a significant portion of the level-of-effort for a digital instrumentation and controls (I&C) review will require specialized digital I&C and human factors engineering skills. To better plan and ensure availability of resources to perform digital I&C reviews, the NRC is seeking scheduling information for licensing submittals from all respondents. This information will allow the NRC to better allocate its resources to support the activities associated with licensing these technologies while being better able to meet the licensee's desired timeline.

Dated: April 12, 2024.
For the Nuclear Regulatory Commission.
David Cullison,
NRC Clearance Officer, Office of the Chief Information Officer.

[FR Doc. 2024-08130 Filed 4-16-24; 8:45 am]

BILLING CODE 7590-01-P